DEPARTMENT OF TRANSPORTATION

Federal Aviation Administration

14 CFR Part 71

[Docket No. FAA-2021-0357; Airspace Docket No. 21-ANE-3]

RIN 2120-AA66

Amendment of Class D and Class E Airspace; Portsmouth, NH

AGENCY: Federal Aviation Administration (FAA), DOT.

ACTION: Final rule.

SUMMARY: This action amends Class D airspace and Class E airspace for Portsmouth International Airport at Pease, Portsmouth, NH, due to the decommissioning of the PEASE Very High Frequency Omnidirectional Range Collocated with Distance Measuring Equipment (VOR/DME) and cancellation of the standard instrument associated approach procedures (SIAPs). This action also updates the airport's name and geographic coordinates. Controlled airspace is necessary for the safety and management of instrument flight rules (IFR) operations in the area.

DATES: Effective 0901 UTC, December 2, 2021. The Director of the Federal Register approves this incorporation by reference action under 1 CFR part 51, subject to the annual revision of FAA Order JO 7400.11 and publication of conforming amendments.

ADDRESSES: FAA Order JO 7400.11F, Airspace Designations and Reporting Points, and subsequent amendments can be viewed online at http://www.faa.gov/air_traffic/publications/. For further information, you can contact the Airspace Policy Group, Federal Aviation Administration, 800 Independence Avenue SW, Washington, DC 20591; Telephone: (202) 267-8783. The Order is also available for inspection at the National Archives and Records Administration (NARA). For information on the availability of FAA Order JO 7400.11F at NARA, email fr.inspection@nara.gov or go to https://www.archives.gov/federal-register/cfr/ibr-locations.html.

FOR FURTHER INFORMATION CONTACT: John Fornito, Operations Support Group, Eastern Service Center, Federal Aviation Administration, 1701 Columbia Ave., College Park, GA 30337; Telephone (404) 305-6364.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends airspace for Portsmouth International Airport at Pease, Portsmouth, NH, to support IFR operations in the area.

History

The FAA published a notice of proposed rulemaking in the Federal Register (86 FR 37090, July 14, 2021) for Docket No. FAA-2021-0357 to amend Class D airspace and remove Class E surface airspace area designated as an extension to Class D and Class E airspace, and amend Class E airspace extending up from 700 feet above the surface for Portsmouth International Airport at Pease, Portsmouth, NH. In addition, the FAA is updating the airport name to Portsmouth International Airport at Pease, as well as the geographical coordinates of the airport.

Interested parties were invited to participate in this rulemaking effort by submitting written comments on the proposal to the FAA. No comments were received.

Class D and E airspace designations are published in Paragraphs 5000, 6004, and 6005, respectively, of FAA Order JO 7400.11F, dated August 10, 2021, and effective September 15, 2021, which is incorporated by reference in 14 CFR 71.1. The Class E airspace designations listed in this document will be published subsequently in the Order.

Availability and Summary of Documents for Incorporation by Reference

This document amends FAA Order JO 7400.11F, Airspace Designations and Reporting Points, dated August 10, 2021 and effective September 15, 2021. FAA Order JO 7400.11F is publicly available as listed in the ADDRESSES section of this document. FAA Order JO 7400.11F lists Class A, B, C, D, and E airspace areas, air traffic routes, and reporting points.

The Rule

The FAA is amending 14 CFR part 71 by amending Class D airspace, increasing the radius to 4.7 miles from 4.5 miles, removing Class E airspace area designated as an extension to Class D and Class E surface area as it is no longer necessary, and amending Class E airspace extending upward from 700 feet above the surface at Portsmouth International Airport at Pease, Portsmouth, NH, due to the decommissioning of the PEASE VOR/DME and cancellation of the associated approach procedures (SIAPs). This action updates the airport name to Portsmouth International Airport at Pease (formerly Pease International Tradeport). In addition, the FAA updates the geographic coordinates of the airport and Littlebrook Air Park to coincide with the FAA's database. These changes are necessary for continued safety and management of IFR operations in the area. Also, the reference to Newburyport, MA, and Boston, MA, Class E airspace areas are omitted from the Class E5 descriptor, as this airspace is shared amongst the airports.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air)

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

ANE NH D Portsmouth, NH [Amended]

Portsmouth International Airport at Pease, NH

(Lat. 43°04′41″ N, long. 70°49′24″ W)

Eliot, Littlebrook Air Park, ME

(Lat. 43°08′35″ N, long. 70°46′24″ W)

That airspace extending upward from the surface to and including 2,600 feet MSL within a 4.7-mile radius of the Portsmouth International Airport at Pease, excluding that airspace within a 1.5-mile radius of the Littlebrook Air Park.

Paragraph 6004 Class E Airspace Designated as an Extension to Class E Surface Area.

* * * * *

ANE NH E4 Portsmouth, NH [Removed]

Paragraph 6005 Class E Airspace Areas Extending Upward From 700 Feet or More Above the Surface of the Earth.

* * * * *

ANE NH E5 Portsmouth, NH [Amended]

Portsmouth International Airport at Pease, NH

(Lat. 43°04′41″ N, long. 70°49′24″ W)

That airspace extending upward from 700 feet above the surface within an 8.2-mile radius of Portsmouth International Airport at Pease.

Issued in College Park, Georgia, on September 29, 2021.
Andreese C. Davis,
Manager, Airspace & Procedures Team South, Eastern Service Center, Air Traffic Organization.

[FR Doc. 2021-21631 Filed 10-5-21; 8:45 am]

BILLING CODE 4910-13-P